ENVIRONMENTAL PROTECTION AGENCY

40 CFR Part 59

[EPA-HQ-OAR-2006-0971; FRL-8738-8]

RIN 2060-AP33

National Volatile Organic Compound Emission Standards for Aerosol Coatings

AGENCY: Environmental Protection Agency (EPA).

ACTION: Proposed rule.

SUMMARY: EPA is proposing to amend the National Volatile Organic Compound Emission Standards for Aerosol Coatings, which establishes national reactivity-based emission standards for the aerosol coatings category (aerosol spray paints) under the Clean Air Act (CAA). In this “Rules and Regulations” section of this Federal Register, we are making these same amendments as a direct final rule, without a prior proposed rule. If we receive no adverse comment, we will not take further action on this proposed rule.

DATES: Comments must be received by December 8, 2008, or December 22, 2008 if a hearing is requested.

Public Hearing: If anyone contacts EPA requesting to speak at a public hearing concerning the proposed regulation by November 17, 2008, we will hold a public hearing on November 24, 2008.

ADDRESSES: Comments. Submit your comments, identified by Docket ID No. EPA-HQ-OAR-2006-0971 by mail to National Volatile Organic Compound Emission Standards for Aerosol Coatings, Environmental Protection Agency, Mail Code: 2822T, 1200 Pennsylvania Avenue, NW., Washington, DC 20460. Please include a total of two copies. Comments may also be submitted electronically or through hand delivery/courier by following the detailed instructions in the ADDRESSES section of the Direct Final Rule located in the “Rules” section of this Federal Register.

Public Hearing: If you are interested in attending the public hearing, contact Ms. Joan Rogers at (919) 541-4487 to verify that a hearing will be held. If a public hearing is held, it will be held at 10 a.m. at EPA's Campus located at 109 T.W. Alexander Drive in Research Triangle Park, NC, or an alternate site nearby. If no one contacts EPA requesting to speak at a public hearing concerning this rule by November 17, 2008, this meeting will be cancelled without further notice.

FOR FURTHER INFORMATION CONTACT: For further information, contact Ms. J. Kaye Whitfield, U.S. EPA, Office of Air Quality Planning and Standards, Sector Policies and Programs Division, Natural Resources and Commerce Group (E143-03), Research Triangle Park, NC 27711; telephone number (919) 541-2509; facsimile number (919) 541-3470; e-mail address: whitfield.kaye@epa.gov. For information concerning the Clean Air Act (CAA) Section 183(e) consumer and commercial products program, contact Mr. Bruce Moore, U.S. EPA, Office of Air Quality Planning and Standards, Sector Policies and Programs Division, Natural Resources and Commerce Group (E143-03), Research Triangle Park, North Carolina 27711, telephone number: (919) 541-5460, facsimile number (919) 541-3470, e-mail address: moore.bruce@epa.gov.

SUPPLEMENTARY INFORMATION:

I. Why Is EPA Issuing This Proposed Rule?

This document proposes to take action on the National Volatile Organic Compound Emission Standards for Aerosol Coatings to move the applicability and compliance dates for aerosol coatings from January 1, 2009 to July 1, 2009. Also, EPA is making initial notifications required due on the compliance date, as opposed to 90 days in advance of the compliance date. We have published a direct final rule to make these same amendments in the “Rules and Regulations” section of this Federal Register because we view this as a non-controversial action and anticipate no adverse comment. We have explained our reasons for this action in the preamble to the direct final rule.

If we receive no adverse comment, we will not take further action on this proposed rule. If we receive adverse comment, we will withdraw the direct final rule, and it will not take effect. We would address all public comments in any subsequent final rule based on this proposed rule.

We do not intend to institute a second comment period on the action. Any parties interested in commenting must do so at this time.

The regulatory text for the proposal is identical to that for the direct final rule and published in the “Rules and Regulations” section of this Federal Register.

II. Does This Action Apply to Me?

The entities potentially affected by this proposed rule are the same entities that are subject to the Aerosol Coatings final rule. The entities affected by the Aerosol Coatings final rule include: Manufacturers, processors, distributors, importers of aerosol coatings for sale or distribution in the United States, and manufacturers, processors, distributors, or importers who supply the entities listed above with aerosol coatings for sale or distribution in interstate commerce in the United States.

III. Statutory and Executive Order Reviews

For a complete discussion of all the administrative requirements applicable to this action, see the Direct Final Rule in the “Rules and Regulations” section of this Federal Register.

List of Subjects in 40 CFR Part 59

Environmental protection, Administrative practice and procedure, Air pollution control, Intergovernmental relations, Reporting and recordkeeping requirements.

Dated: October 30, 2008.
Stephen L. Johnson,
Administrator.

[FR Doc. E8-26613 Filed 11-6-08; 8:45 am]

BILLING CODE 6560-50-P